NATIONAL FOUNDATION ON THE ARTS AND THE HUMANITIES

National Endowment for the Arts; Combined Arts Advisory Panel—Notice of Change

Pursuant to section 10(a)(2) of the Federal Advisory Committee Act (Public Law 92-463), as amended, notice is hereby given that the open session for the meeting of the Combined Arts Advisory Panel, Visual Arts section (Creativity & Organizational Capacity categories), to the National Council on the Arts, previously announced for 2 p.m.-3:30 p.m. on July 12th, 2000, will be held on July 13th, from 11 a.m. to 12:30 p.m. The meeting will be held in Room 716 at the Nancy Hanks Center, 1100 Pennsylvania Avenue, NW., Washington, DC, 20506.

Dated: June 21, 2000.
Kathy Plowitz-Worden,
Panel Coordinator, Panel Operations, National Endowment for the Arts.

[FR Doc. 00-16197 Filed 6-26-00; 8:45 am]

BILLING CODE 7537-01-M